DEPARTMENT OF COMMERCE

National Oceanic and Atmospheric Administration

Proposed Information Collection; Comment Request; 3D Nation Requirements and Benefits Elevation Data Study Questionnaire

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 25, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Ashley Chappell, NOAA Integrated Ocean and Coastal Mapping Coordinator, 1315 East West Hwy SSMC3 Rm 6813, Silver Spring, MD 20910, 240-429-0293, or ashley.chappell@noaa.gov.

SUPPLEMENTARY INFORMATION:

I. Abstract

The National Oceanic and Atmospheric Administration (NOAA) Office of Coast Survey and the U.S. Geological Survey (USGS) National Geospatial Program plan to conduct a follow-on study to the National Enhanced Elevation Assessment (NEEA) white paper finalized in 2012 (NEEA overview can be found at https://pubs.usgs.gov/fs/2012/3088/). This NEEA follow-on study will incorporate coastal and ocean requirements for elevation data along with a revisit of the terrestrial elevation data needs assessed via a similar survey in 2010 (OMB Control No. 1028-0099). The primary tool to gather information will be a questionnaire covering a wide range of business uses that depend on 3D data to inform policy, regulation, scientific research, and management decisions. For purposes of this questionnaire, 3D data refers to topographic data (precise three-dimensional measurements of the terrestrial terrain) and bathymetric data (three-dimensional surface of the underwater terrain). Questions will be asked about how 3D data relate to other data types such as the shoreline; characteristics of tides, currents, and waves; and the physical and chemical properties of the water itself. A series of questions will be asked as they relate to specific Mission Critical Activities. These will include questions about the area (geographic extent), 3D data accuracy requirements, linkages to other data to support a wide range of analysis, and benefits of having the required data.

NOAA, USGS and partner mapping agencies are working to improve the technology systems, data, and services that provide information about 3D data and related applications within the United States. By learning more about business uses and associated benefits that would be realized from improved 3D data, the agencies will be able to prioritize and direct investments that will best serve user needs. This questionnaire is part of an effort to develop and refine future program alternatives that would provide enhanced 3D data to meet many Federal, State, and other national business needs.

Because 3D data are collected and used to meet a wide range of mission critical needs, we are seeking input from managers and data users from a variety of government entities (e.g., Federal, State, local, Tribal) as well as not for profit, academic, and private/commercial entities. The findings are expected to establish a baseline of national business needs and associated benefits for 3D data and associated technologies. This baseline will enhance the responsiveness of NOAA, USGS, and partner agency programs to stakeholder needs, and inform the design of directed future programs that balance requirements, benefits, and costs at a national scale. Collected responses will be aggregated at the agency and national levels. Responses associated with individuals will not be distributed. The information collection process will be guided by an interagency management team led by NOAA and USGS with support from a professional services contractor. The information collection will be conducted using a standardized template. Responses are one-time and voluntary. In-person interviews to clarify questionnaire results may also be arranged. The draft questionnaire will be posted for the duration of this public comment period at the NOAA Integrated Ocean and Coastal Mapping site (https://iocm.noaa.gov/).

II. Method of Collection

Emails will be sent to a comprehensive list of stakeholders, with requests to forward to any other interested participants. The emails will include a link to the online survey, which can also be provided upon request by paper or other means. In-person interviews may follow to resolve questions, clarify answers and add more detail to responses.

III. Data

OMB Control Number: 0648-xxxx.

Form Number(s): None.

Type of Review: Regular (request for a new information collection).

Affected Public: Federal government, State, local or tribal governments; not-for-profit institutions, academia, business or other for-profit organizations.

Estimated Number of Respondents: 600.

Estimated Time per Response: 2 hours.

Estimated Total Annual Burden Hours: 1,200.

Estimated Total Annual Cost to Public: $0 in recordkeeping/reporting activities.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 16, 2017.
Sarah Brabson,
NOAA PRA Clearance Officer.

[FR Doc. 2017-03594 Filed 2-23-17; 8:45 am]

BILLING CODE 3510-JE-P